DEPARTMENT OF ENERGY

Federal Energy Regulatory Commission

Combined Notice of Filings #1

Take notice that the Commission received the following electric corporate filings:

Docket Numbers: EC12-116-000.

Applicants: Iron Energy LLC.

Description: Application for Authorization for Disposition of Jurisdictional Facilities and Request for Expedited Action of Iron Energy LLC.

Filed Date: 7/6/12.

Accession Number: 20120706-5121.

Comments Due: 5 p.m. ET 7/27/12.

Take notice that the Commission received the following exempt wholesale generator filings:

Docket Numbers: EG12-84-000.

Applicants: Spion Kop Wind, LLC.

Description: Spion Kop Wind, LLC Notice of Self-Certification of Exempt Wholesale Generator Status.

Filed Date: 7/6/12.

Accession Number: 20120706-5088.

Comments Due: 5 p.m. ET 7/27/12.

Take notice that the Commission received the following electric rate filings:

Docket Numbers: ER07-956-002.

Applicants: Entergy Services, Inc.

Description: Compliance refund report of Entergy Services, Inc.

Filed Date: 7/6/12.

Accession Number: 20120706-5120.

Comments Due: 5 p.m. ET 7/27/12.

Docket Numbers: ER10-2172-011; ER11-2016-006; ER10-2184-011; ER10-2183-008; ER10-1048-008; ER10-2176-012; ER10-2192-011; ER11-2056-005; ER10-2178-011; ER10-2174-011; ER11-2014-008; ER11-2013-008; ER10-3308-010; ER10-1017-007; ER10-1020-007; ER10-1145-007; ER10-1144-006; ER10-1078-007; ER10-1079-007; ER10-1080-007; ER11-2010-008; ER10-1081-007; ER10-2180-011; ER11-2011-007; ER11-2009-007; ER11-3989-006; ER10-1143-007; ER11-2780-004; ER11-2007-006; ER12-1223-005; ER11-2005-008.

Applicants: Constellation Energy Commodities Group, Inc., Commonwealth Edison Company, PECO Energy Company, Wind Capital Holdings, LLC, Constellation Power Source Generation, Inc., Safe Harbor Water Power Corporation, Baltimore Gas & Electric Company, Handsome Lake Energy, LLC, Constellation Energy Commodities Group Maine, LLC, Exelon Framingham LLC, Exelon New England Power Marketing, LP, Exelon New Boston, LLC, Exelon West Medway, LLC, Exelon Wyman, LLC, Constellation NewEenergy, Inc., Exelon Generation Company, LLC, Exelon Energy Company, CER Generation, LLC, CER Generation II, LLC, Constellation Mystic Power, LLC, Cassia Gulch Wind Park, LLC, Michigan Wind 1, LLC, Tuana Springs Energy, LLC, Harvest Windfarm, LLC, CR Clearing, LLC, Exelon Wind 4, LLC, Cow Branch Wind Power, L.L.C., Michigan Wind 2, LLC, Criterion Power Parnters, LLC, Wildcat Wind, LLC.

Description: Notice of Non-Material Change in Status of Baltimore Gas & Electric Company, et al.

Filed Date: 7/6/12.

Accession Number: 20120706-5131.

Comments Due: 5 p.m. ET 7/27/12.

Docket Numbers: ER10-2181-013; ER10-2179-013; ER10-2182-013.

Applicants: R.E. Ginna Nuclear Power Plant, LLC, Calvert Cliffs Nuclear Power Plant, LLC, Nine Mile Point Nuclear Station, LLC.

Description: Notice of Non-Material Change in Status of Nine Mile Point Nuclear Station, LLC, et al.

Filed Date: 7/6/12.

Accession Number: 20120706-5123.

Comments Due: 5 p.m. ET 7/27/12.

Docket Numbers: ER12-1840-001.

Applicants: Michigan Electric Transmission Company, LLC.

Description: METC Certificate of Concurrence to be effective 7/13/2012.

Filed Date: 7/6/12.

Accession Number: 20120706-5043.

Comments Due: 5 p.m. ET 7/27/12.

Docket Numbers: ER12-1841-001.

Applicants: Michigan Electric Transmission Company, LLC.

Description: METC Certificate of Concurrence to be effective 7/11/2012.

Filed Date: 7/6/12.

Accession Number: 20120706-5050.

Comments Due: 5 p.m. ET 7/27/12.

Docket Numbers: ER12-1843-001.

Applicants: Michigan Electric Transmission Company, LLC.

Description: METC Certificate of Concurrence to be effective 7/12/2012.

Filed Date: 7/6/12.

Accession Number: 20120706-5052.

Comments Due: 5 p.m. ET 7/27/12.

Docket Numbers: ER12-2215-000.

Applicants: Spion Kop Wind, LLC.

Description: Application for Market-Based Rate Authority to be effective 7/9/2012.

Filed Date: 7/6/12.

Accession Number: 20120706-5074.

Comments Due: 5 p.m. ET 7/27/12.

Docket Numbers: ER12-2216-000.

Applicants: Midwest Independent Transmission System Operator, Inc.

Description: 07-06-12 AIC Attachment O and GG to be effective 1/1/2013 under ER12-2216 Filing Type: 10.

Filed Date: 7/6/12.

Accession Number: 20120706-5075.

Comments Due: 5 p.m. ET 7/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2012.
Nathaniel J. Davis, Sr.,
Deputy Secretary.

[FR Doc. 2012-17216 Filed 7-13-12; 8:45 am]

BILLING CODE 6717-01-P